DEPARTMENT OF HOUSING AND URBAN DEVELOPMENT

[Docket No. FR-5540-D-01]

Delegation of Authority for the Office of Public Affairs

AGENCY: Office of the Secretary, HUD.

ACTION: Notice of Delegation of Authority.

SUMMARY: In this notice, the Secretary of HUD delegates authority to the General Deputy Assistant Secretary for Public Affairs with respect to developing policy and procedures for external and internal communications for HUD. This notice also supersedes all prior delegations of authority from the Secretary to the Assistant Secretary for Public Affairs.

DATES: Effective Date: June 29, 2011.

FOR FURTHER INFORMATION CONTACT: Neill Coleman, General Deputy Assistant Secretary, Office of Public Affairs, Department of Housing and Urban Development, 451 7th Street, SW., Room 10130, Washington, DC 20410-6000, telephone number 202-708-0980. (This is not a toll-free number.) Persons with hearing- or speech-impairments may access this number through TTY by calling the toll-free Federal Relay Service at 1-800-877-8339.

SUPPLEMENTARY INFORMATION:

Section A. Authority

The Secretary hereby delegates to the General Deputy Assistant Secretary for Public Affairs authority and responsibility for conveying the Department's mission through internal and external outreach to include local, regional, and national level media. The Office of Public Affairs is responsible for ensuring that information provided to the news media by HUD is current, complete, and accurate. It also has responsibility for ensuring that all applicable laws, regulations, and policies involving the release of information to the public are followed. In carrying out these responsibilities, the General Deputy Assistant Secretary for Public Affairs shall, among other duties:

1. Direct and coordinate all media outreach for the Department regarding the Department's mission.

2. Use a variety of mediums and media outlets to communicate the Department's initiatives and goals to stakeholders, homeowners, renters, and those individuals living in or in need of subsidized housing.

3. Provide Americans with information about housing policies and programs through coordinating press conferences; drafting press releases; and utilizing the Internet and social media, including departmental blogs, Facebook, Twitter, Flikr, and You Tube, in addition to community outreach and other methods of communication.

4. Reviewing or drafting all official speeches and statements made by HUD officials and employees before such statements are released to the public.

Section B. Authority Excepted

The authority delegated in this document does not include the authority to sue or be sued or to issue or waive regulations.

Section C. Authority to Redelegate

The General Deputy Assistant Secretary for Public Affairs is authorized to redelegate to employees of HUD any of the authority delegated under Section A.

Section D. Authority Superseded

This delegation supersedes all prior delegations of authority from the Secretary to the Assistant Secretary for Public Affairs.

Authority: Section 7(d), Department of Housing and Urban Development Act (42 U.S.C. 3535(d)).

Dated: June 29, 2011.
Shaun Donovan,
Secretary.

[FR Doc. 2011-18159 Filed 7-19-11; 8:45 am]

BILLING CODE 4210-67-P